DEPARTMENT OF THE INTERIOR

National Park Service

Notice of Availability of Draft National Park Service Management Policies

AGENCY: National Park Service, Interior.

ACTION: Notice of availability.

SUMMARY: The National Park Service (NPS) is proposing to update the policies that guide the management of the national park system. The policies are being updated to improve their clarity and to keep pace with changes in laws, regulations, socio-economic factors and technology. The revised policies will also improve understandings among NPS managers, and between NPS managers and the public, regarding how decisions are made in protecting park resources and providing opportunities for public enjoyment of the parks. Public comment is invited for a 90-day period, which closes January 19, 2006.

DATES: Written comments will be accepted until January 19, 2006.

ADDRESSES: The draft Management Policies document is available on the Internet at http://parkplanning.nps.gov/waso. Hard copies may be reviewed in the Department of the Interior library (at the C Street entrance of the Main Interior Building, Washington, DC) and at NPS regional offices in Philadelphia, PA; Oakland, CA; Washington, DC; Atlanta, GA; Denver, CO; Omaha, NE; and Anchorage, AK. A limited number of single hard copies of the draft may be obtained by calling 202-208-7456. Comments can be submitted in the following ways:

1. Via the Web page at http://parkplanning.nps.gov/waso. This is the preferred way.

2. Via e-mail to waso_policy@nps.gov. Or,

3. Via surface mail to Bernard Fagan, National Park Service, Office of Policy, Room 7252, Main Interior Building, 1849 C Street, NW., Washington, DC 20240.

FOR FURTHER INFORMATION CONTACT: Bernard Fagan at (202) 208-7456, or via e-mail at waso_policy@nps.gov.

SUPPLEMENTARY INFORMATION: The NPS has completed a comprehensive review and revision of the policies that currently guide the management of the national park system. The policies are compiled in a book called Management Policies, last published in 2001. Park superintendents, planners, and other NPS employees use management policies as a reference source when making decisions that will affect units of the national park system.

Management Policies includes the National Park Service's interpretation of the key legislation that underlies the policies, and chapters that address: park planning; park protection; interpretation and education; use of the parks; park facilities; commercial visitor services; and the management of natural resources, cultural resources, and wilderness.

The policies are being updated to improve their clarity and to keep pace with changes in laws, regulations, socio-economic factors and technology. The new policies will also improve understandings among NPS managers, and between NPS managers and the public, regarding how decisions are made in protecting park resources and providing opportunities for public enjoyment of the parks.

Among other things, the draft policy document:

• More clearly defines important terms and concepts, enabling park managers to better anticipate and articulate how impairment of park resources can be prevented.

• More accurately reflects the NPS's commitment to tourism and public enjoyment.

• Emphasizes employee development and safety.

• Provides guidance in response to changing recreation uses and technology.

• Encourages management excellence by using better baseline scientific data, cooperative conservation, civic engagement, and good business practices.

• Recognizes new challenges facing the NPS, such as Homeland Security.

• Retains key authorities and decision making as the responsibility of the NPS.

The NPS hereby invites comments on the draft policies from any and all who may be interested. Comments will be accepted during a 90-day period which ends January 19, 2006. Comments should be specific as to how a policy might be changed or strengthened.

All comments will be reviewed, and appropriate suggestions will be incorporated into the revised final version of Management Policies. The final document will be available for public review via the Internet and in printed form. A notice of availability of the final document, and an explanation of how comments were addressed, will appear in the Federal Register.

Dated: October 14, 2005.
Loran Fraser,
Chief, Office of Policy.

[FR Doc. 05-20917 Filed 10-18-05; 8:45 am]

BILLING CODE 4312-52-P